DEPARTMENT OF ENERGY

Federal Energy Regulatory Commission

[Docket No. PF06-13-000]

Downeast LNG, Inc.; Notice of Intent To Prepare an Environmental Impact Statement for the Downeast LNG Project, Request for Comments on Environmental Issues and Notice of a Joint Public Meeting

March 13, 2006.

The Federal Energy Regulatory Commission (FERC or Commission) and the U.S. Department of Homeland Security, U.S. Coast Guard (Coast Guard) are in the process of evaluating the Downeast Liquefied Natural Gas (LNG) Project planned by Downeast LNG, Inc. (Downeast). The project would consist of an onshore LNG import and storage terminal, located on the south side of Mill Cove in the Town of Robbinston, near the confluence of Passamaquoddy Bay and the St. Croix River, in Washington County, Maine; and an approximately 31-mile-long natural gas sendout pipeline, extending from the terminal to the existing Maritimes & Northeast (M&NE) pipeline system at the Baileyville, Maine, compressor station.

As a part of this evaluation, FERC staff will prepare an environmental impact statement (EIS) that will address the environmental impacts of the project and the Coast Guard will assess the maritime safety and security of the project. As described below, the FERC and the Coast Guard will hold a joint public meeting to allow the public to provide input to these assessments.

The Commission will use the EIS in its decision-making process to determine whether or not to authorize the project. This Notice of Intent (NOI) explains the scoping process we ¹ will use to gather information on the project from the public and interested agencies and summarizes the process that the Coast Guard will use. Your input will help identify the issues that need to be evaluated in the EIS and in the Coast Guard's maritime safety and security assessment. Please note that scoping comments are requested by April 17, 2006.

¹ “We,” “us,” and “our” refer to the environmental staff of the FERC's Office of Energy Projects.

Comments on the project may be submitted in written form or verbally. Further details on how to submit written comments are provided in the Public Participation section of this NOI. In lieu of sending written comments, we invite you to attend the public scoping meeting scheduled as follows: Tuesday, March 28, 2006, 6:30 p.m. Robbinston Grade School, 904 U.S. Route 1, Robbinston, ME 04671. 207-454-3694.

The public scoping meeting listed above will be combined with the Coast Guard's public meeting regarding the maritime safety and security of the project. At the meeting, the Coast Guard will discuss: (1) The waterway safety assessment that it will conduct to determine whether or not the waterway can safely accommodate the LNG carrier traffic and operation of the planned LNG marine terminal; and (2) the security assessment it will conduct in accordance with the requirements of the Maritime Transportation Security Act. The Coast Guard will not be issuing a separate meeting notice for the maritime safety and security aspects of the project.

The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in Title 33 CFR part 105, and recommendation for siting as it pertains to the management of vessel traffic in and around the LNG facility.

Upon receipt of a letter of intent from an owner or operator intending to build a new LNG facility, the Coast Guard Captain of the Port (COTP) conducts an analysis that results in a letter of recommendation issued to the owner or operator and to the state and local governments having jurisdiction, addressing the suitability of the waterway to accommodate LNG vessels. Specifically the letter of recommendation addresses the suitability of the waterway based on:

• The physical location and layout of the facility and its berthing and mooring arrangements.

• The LNG vessels' characteristics and the frequency of LNG shipments to the facility.

• Commercial, industrial, environmentally sensitive, and residential area in and adjacent to the waterway used by the LNG vessels en route to the facility.

• Density and character of the marine traffic on the waterway.

• Bridges or other manmade obstructions in the waterway.

• Depth of water.

• Tidal range.

• Natural hazards, including rocks and sandbars.

• Underwater pipelines and cables.

• Distance of berthed LNG vessels from the channel, and the width of the channel.

In addition, the Coast Guard will review and approve the facility's operations manual and emergency response plan (33 CFR 127.019), as well as the facility's security plan (33 CFR 105.410). The Coast Guard will also provide input to other Federal, state, and local government agencies reviewing the project.

In order to complete a thorough analysis and fulfill the regulatory mandates cited above, the COTP Sector Northern New England will be conducting a formal risk assessment evaluating the various safety and security aspects associated with the Downeast LNG proposed project. This risk assessment will be accomplished through a series of workshops focusing on the areas of waterways safety, port security, and consequence management, with involvement from a broad cross-section of government and port stakeholders with expertise in each of the respective areas. The workshops will be by invitation only. However, comments received during the public comment period will be considered as input in the risk assessment process.

This NOI is being sent to Federal, state, and local government agencies; elected officials; affected landowners; environmental and public interest groups; Indian tribes and regional Native American organizations; commentors and other interested parties; and local libraries and newspapers. We encourage government representatives to notify their constituents of this planned project and encourage them to comment on their areas of concern.²

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

Summary of the Proposed Project

Downeast proposes to construct and operate an LNG import terminal and storage facility, and associated natural gas sendout pipeline with a nominal capacity of about 500 million standard cubic feet of natural gas per day (mmscfd) with peak deliveries up to 625 mmscfd. More specifically, Downeast's facilities would consist of:

• A marine LNG terminal, including a single berth, 3,862-foot-long pier, capable of handling about 50 LNG tankers per year, ranging in size from 70,000 to 220,000 cubic meters (m³) per ship;

• Three 16-inch-diameter unloading arms and one vapor return line on the unloading platform, with an unloading capacity rate of 14,000 m³ of LNG per hour;

• One insulated LNG storage tank, with a capacity of 160,000 m³;

• Boil-off gas management system, and sendout pumps;

• Submerged combustion vaporizers to re-vaporize LNG to natural gas;

• Electrical power distribution, including power substations and transformers;

• Ancillary terminal facilities, including control room, maintenance shop, warehouse, office, security, and safety systems;

• Measurement controls and natural gas metering facilities;

• A 31-mile-long, 20 or 24-inch-diameter natural gas sendout pipeline, extending from the LNG terminal to the existing M&NE pipeline system at the Baileyville, Maine, compressor station; and

• Comprehensive hazard monitoring system incorporating flammable gas detectors, high and low temperature detectors, smoke detectors, and local emergency shut-down controls.

A location map depicting Downeast's proposed facilities, including its preferred pipeline route and two pipeline options, is attached to this NOI as Appendix 1.²

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

The EIS Process

The NEPA requires the Commission to take into account the environmental impacts that could result from an action when it considers whether or not an LNG import terminal or an interstate natural gas pipeline should be approved. The FERC will use the EIS to consider the environmental impacts that could result if it issues project authorizations to Downeast under sections 3 and 7 of the Natural Gas Act. The NEPA also requires us to discover and address concerns the public may have about proposals. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction, operation, maintenance, and abandonment of the proposed project under these general headings:

• Geology and Soils.

• Water Resources.

• Aquatic Resources.

• Vegetation and Wildlife.

• Threatened and Endangered Species.

• Land Use, Recreation, and Visual Resources.

• Cultural Resources.

• Socioeconomics.

• Marine Transportation.

• Air Quality and Noise.

• Reliability and Safety.

• Cumulative Impacts.

In the EIS, we will also evaluate possible alternatives to the proposed project or portions of the project, and make recommendations on how to lessen or avoid impacts on affected resources.

Our independent analysis of the issues will be included in a draft EIS. The draft EIS will be mailed to Federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Although no formal application has been filed, the FERC staff has already initiated its NEPA review under its pre-filing process. The purpose of the pre-filing process is to encourage early involvement of interested stakeholders and to identify and resolve issues before an application is filed with the FERC. In addition, the Coast Guard, which would be responsible for reviewing the maritime safety and security aspects of the planned project and regulating maritime safety and security if the project is approved, has initiated its review of the project as well.

With this NOI, we are asking Federal, state, and local agencies with jurisdiction and/or special expertise with respect to environmental issues, especially those identified in Appendix 2, to express their interest in becoming cooperating agencies for the preparation of the EIS. These agencies may choose to participate once they have evaluated the proposal relative to their responsibilities. Agencies that would like to request cooperating agency status should follow the instructions for filing comments provided in Appendix 2.

Currently Identified Environmental Issues

We have already identified issues that we think deserve attention based on a preliminary review of the project area and the planned facility information provided by Downeast. This preliminary list of issues, which is presented below, may be revised based on your comments and our continuing analyses.

• Impact of LNG ship traffic on other Passamaquoddy Bay and St. Croix River users, including fishing and recreational boaters.

• Safety issues relating to LNG ship traffic, including transit through Head Harbor Passage and Western Passage, and along the St. Croix River.

• Potential impacts on residents in the project area, including safety issues at the import and storage facility, noise, air quality, and visual resources.

• Project impacts on threatened and endangered species and the Moosehorn National Wildlife Refuge.

• Project impacts on wetlands, vegetation, and wildlife habitat.

• Project impacts on cultural resources.

Public Participation

You can make a difference by providing us with your specific comments or concerns about the planned project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of OEP/DG2E/Gas Branch 3, DG2E.

• Reference Docket No. PF06-13-000 on the original and both copies.

• Mail your comments so that they will be received in Washington, DC on or before April 17, 2006. Appropriate copies will be provided to the Coast Guard.

The Commission strongly encourages electronic filing of any comments in response to this NOI. For information on electronically filing comments, please see the instructions on the Commission's Web site at http://www.ferc.gov under the “e-Filing” link and the link to the User's Guide as well as information in 18 CFR 385.2001(a)(1)(iii). Before you can file comments you will need to create a free account, which can be accomplished on-line.

The public scoping meeting (date, time, and location listed above) is designed to provide another opportunity to offer comments on the proposed project. Interested groups and individuals are encouraged to attend the meeting and to present comments on the environmental issues that they believe should be addressed in the EIS. A transcript of the meeting will be generated so that your comments will be accurately recorded.

Once Downeast formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-Filing” link on the Commission's Web site. Please note that you may not request intervenor status at this time. You must wait until a formal application is filed with the Commission.

Environmental Mailing List

If you wish to remain on the environmental mailing list, please return the attached Mailing List Retention Form (Appendix 3 of this NOI). Also, indicate on the form your preference for receiving a paper version in lieu of an electronic version of the EIS on CD-ROM. If you do not return this form, we will remove your name from our mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-13) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rulemakings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Downeast has established an Internet Web site for this project at http://www.downeastlng.com/index.htm. The Web site includes a project overview, status, potential impacts and mitigation, and answers to frequently asked questions. You can also request additional information by calling Downeast directly at 207-214-5926.

Magalie R. Salas,
Secretary.

[FR Doc. E6-4027 Filed 3-20-06; 8:45 am]

BILLING CODE 6717-01-P